DEPARTMENT OF THE INTERIOR

Bureau of Land Management

[LLNM920000 L13100000 FI0000; NMNM-119267]

Notice of Proposed Reinstatement of Terminated Oil and Gas Lease NMNM 119267

AGENCY: Bureau of Land Management, Interior.

ACTION: Notice of reinstatement of terminated oil and gas lease.

SUMMARY: Under the Class II provisions of Title IV, Public Law 97-451, The Bureau of Land Management (BLM) received a petition for reinstatement of oil and gas lease NMNM 119267 from the lessee, J Bar Cane Inc., for lands in Chaves County, New Mexico. The petition was filed on time and was accompanied by all the rentals due since the date the lease terminated under the law.

FOR FURTHER INFORMATION CONTACT: Lourdes B. Ortiz, Bureau of Land Management, New Mexico State Office, P.O. Box 27115, Santa Fe, New Mexico 87502 or at (505) 438-7586.

SUPPLEMENTARY INFORMATION: No valid lease has been issued that affects the lands. The lessee agrees to new lease terms for rentals and royalties of $10.00 per acre or fraction thereof, per year, and 16 ⅔ percent, respectively. The lessee paid the required $500.00 administrative fee for the reinstatement of the lease and $166.00 cost for publishing this Notice in the Federal Register. The lessee met all the requirements for reinstatement of the lease as set out in Section 31(d) and (e) of the Mineral Leasing Act of 1920 (30 U.S.C. 188). We are proposing to reinstate lease NMNM 119267, effective the date of termination, December 1, 2008, under the original terms and conditions of the lease and the increased rental and royalty rates cited above.

Lourdes B. Ortiz,
Land Law Examiner, Fluids Adjudication Team.

[FR Doc. E9-17573 Filed 7-22-09; 8:45 am]

BILLING CODE 4310-FB-P